DEPARTMENT OF DEFENSE

Office of the Secretary

Meeting of the Defense Department Advisory Committee on Women in the Services (DACOWITS)

AGENCY: Department of Defense

ACTION: Notice.

SUMMARY: Pursuant to Section 10(a), Public Law 92-463, as amended, notice is hereby given of a forthcoming meeting of the Defense Department Advisory Committee on Women in the Services (DACOWITS). The purpose of the Committee meeting is to introduce new members and conduct orientation training. The meeting is open to the public, subject to the availability of space.

Interested persons may submit a written statement for consideration of the Committee and make an oral presentation of such. Persons desiring to make an oral presentation or submit a written statement to the Committee must notify the point of contact listed below no later than 5 p.m., 15 August 2006. Oral presentations by members of the public will be permitted only on Tuesday, 22 August 2006 from 4:30 p.m. to 5 p.m. before the full Committee. Presentations will be limited to two minutes. Number of oral presentation to be made will depend on the number of requests received from members of the public. Each person desiring to make an oral presentation must provide the point of contact listed below with one (1) coy of the presentation by 5 p.m., 18 August 2006 and bring 35 copies of any material that is intended for distribution at the meeting. Persons submitting a written statement must submit 35 copies of the statement to the DACOWITS staff by 5 p.m. on 18 August 2006.

DATES: 22 August 2006, 8:30 a.m.-5 p.m.; 23 August 2006, 10 a.m.-12 p.m.

Location: Double Tree Hotel Crystal City National Airport, 300 Army Navy Drive, Arlington, VA 22202.

FOR FURTHER INFORMATION CONTACT: MSgt Gerald Posey, USA DACOWITS, 4000 Defense Pentagon, Room 2C548A, Washington, DC 20301-4100. Telephone (703) 697-2122. Fax (703) 614-6233.

SUPPLEMENTARY INFORMATION: Meeting agenda.

Tuesday, 22 August 2006, 8:30 a.m.-5 p.m.

Welcome & Administrative Remarks.

New member Orientation.

Public Forum.

Wednesday, 23 August 2006, 8:30 a.m.-10 a.m. (Not Open to Public)

Committee Administrative and Security Training.

Wednesday, 23 August 2006, 10 a.m.-12 p.m.

Outline and Review 2006 Report Protocols.

Note: Exact order may vary.

Dated: July 20, 2006.
L.M. Bynum,
OSD Federal Register Liaision Officer, DOD.

[FR Doc. 06-6481 Filed 7-25-06; 8:45 am]

BILLING CODE 5001-06-M